DEPARTMENT OF HEALTH AND HUMAN SERVICES

Agency for Toxic Substances and Disease Registry

Community and Tribal Subcommittee of the Board of Scientific Counselors, Agency for Toxic Substances and Disease Registry; Meeting

In accordance with section 10(a)(2) of the Federal Advisory Committee Act (Pub. L. 92-463), the Agency for Toxic Substances and Disease Registry (ATSDR) announces the following subcommittee meeting.

Name: Community and Tribal Subcommittee (CTS).

Times and Dates:

8:30 a.m.—4:30 p.m., August 19, 2003.

8:45 a.m.—4:30 p.m., August 20, 2003.

Place: Agency for Toxic Substances and Disease Registry, 1825 Century Center, Atlanta, Georgia 30345.

Status: Open to the public, limited by the available space. The meeting room accommodates approximately 35 people.

Purpose: This subcommittee brings to the Board advice, citizen input, and recommendations on community and tribal programs, practices, and policies of the Agency.

Matters to be discussed: Agenda items include a discussion on National Policy Dialogue on the Military Munitions Document; update on the Tribal Environmental Health Education Program; ATSDR Disease Registry Process; presentation on the CTS Evaluation Process findings and outcomes; reports from the task groups on cultural sensitivity activities, educational training and toolbox, and an evaluation of Public Health Assessment compliance to guidelines; review of Action Items and Recommendations; and an update on ATSDR activities.

Written comments are welcomed and should be received by the contact person listed below prior to the opening of the meeting.

Agenda items are subject to change as priorities dictate.

For Further Information Contact: James E. Tullos, Jr., Designated Federal Official, CTS/ATSDR contact, ATSDR, M/S E-33, 1600 Clifton Road, NE, Atlanta, Georgia 30333, telephone 404/498-0287.

The Director, Management Analysis and Services Office, has been delegated the authority to sign Federal Register notices pertaining to announcements of meetings and other committee management activities, for both the Centers for Disease Control and Prevention and ATSDR.

Dated: July 23, 2003.
Alvin Hall,
Director, Management Analysis and Services Office, Centers for Disease Control and Prevention (CDC).

[FR Doc. 03-19199 Filed 7-28-03; 8:45 am]

BILLING CODE 4163-70-P